DEPARTMENT OF HEALTH AND HUMAN SERVICES

Food and Drug Administration

21 CFR Part 173

[Docket No. FDA-2023-F-2319]

PHM Brands; Withdrawal of Food Additive Petition

AGENCY: Food and Drug Administration, HHS.

ACTION: Notification; withdrawal of petition.

SUMMARY: The Food and Drug Administration (FDA or we) is announcing the withdrawal, without prejudice to a future filing, of a food additive petition (FAP 2A4832) proposing that the food additive regulations for chlorine dioxide be amended to provide for an additional method for producing the additive.

DATES: The food additive petition was withdrawn on March 4, 2024.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Karen Hall, Center for Food Safety and Applied Nutrition, Food and Drug Administration, 5001 Campus Dr., College Park, MD 20740, 240-402-9195.

SUPPLEMENTARY INFORMATION: In a notice published in the Federal Register of June 21, 2023 (88 FR 40122), we announced that we had filed a food additive petition (FAP 2A4832), submitted by Burdock Group Consultants on behalf of PHM Brands, 730 17th Street, Denver, Colorado 80202. The petition proposed to amend the food additive regulations in § 173.300 (21 CFR 173.300 Chlorine dioxide) to provide for production of the additive via an electrolytic method from a brine solution containing chloride salts. PHM Brands has now withdrawn the petition without prejudice to a future filing (21 CFR 171.7).

Dated: September 20, 2024.
Lauren K. Roth,
Associate Commissioner for Policy.

[FR Doc. 2024-21934 Filed 9-25-24; 8:45 am]

BILLING CODE 4164-01-P